DEPARTMENT OF COMMERCE

National Oceanic and Atmospheric Administration

Science Advisory Board (SAB)

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Wednesday, July 16, 2008, from 10 a.m. to 4 p.m. and Thursday, July 17, 2008, from 8:30 a.m. to 5:30 p.m. These times and the agenda topics described below are subject to change. Please refer to the Web page http://www.sab.noaa.gov/Meetings/meetings.html for the most up-to-date meeting agenda.

Place: The meeting will be held both days at the Kalahari Resort, 7000 Kalahari Drive, Sandusky, Ohio 44870. Please check the SAB Web site http://www.sab.noaa.gov for confirmation of the venue and for directions.

Status: The meeting will be open to public participation with a 30-minute public comment period on July 17 (check Web site to confirm time). The SAB expects that public statements presented at its meetings will not be repetitive of previously submitted verbal or written statements. In general, each individual or group making a verbal presentation will be limited to a total time of five (5) minutes. Written comments should be received in the SAB Executive Director's Office by July 11, 2008 to provide sufficient time for SAB review. Written comments received by the SAB Executive Director after July 11, 2008, will be distributed to the SAB, but may not be reviewed prior to the meeting date. Seats will be available on a first-come, first-served basis.

Matters To Be Considered: The meeting will include the following topics: (1) Final Report from the Working Group to Examine Advisory Options for Improving Communications among NOAA's Partners (Partnerships WG or PWG); (2) Preliminary Draft Report from the Fire Weather Research Working Group (FWRWG); (3) National Climate Service; (4) Climate Working Group Update on Climate Services; (5) Climate Working Group Review on Research and Modeling Review; (6) Oceans and Human Health; (7) Unmanned Aircraft Systems (UAS) in NOAA; (8) NOAA Transition to the Next Administration; (9) SAB Benchmark Review Discussion; (10) SAB Strategic Planning Discussion; and (11) a series of brief presentations on NOAA activities in the Great Lakes.

FOR FURTHER INFORMATION CONTACT: Dr. Cynthia Decker, Executive Director, Science Advisory Board, NOAA, Rm. 11230, 1315 East-West Highway, Silver Spring, Maryland 20910. (Phone: 301-734-1156, Fax: 301-713-1459, E-mail: Cynthia.Decker@noaa.gov); or visit the NOAA SAB Web site at http://www.sab.noaa.gov.

Dated: June 12, 2008.
Terry Bevels,
Deputy Chief Financial Officer, Office of Oceanic and Atmospheric Research, National Oceanic and Atmospheric Administration.

[FR Doc. E8-13793 Filed 6-17-08; 8:45 am]

BILLING CODE 3510-KD-P